DEPARTMENT OF STATE

[Public Notice 4945]

Deployment of the Biometric Visa Program for the Collection of Biometric Identifiers of Nonimmigrant and Immigrant Visa Applicants

This public notice announces the Biometric Visa Program, which has been operating in a pilot mode since September 22, 2003, which became a permanent program effective October 26, 2004.

Section 303 of the “Enhanced Border Security and Visa Entry Reform Act” (The Border Security Act) (Pub. L. 107-173, 116 Stat. 543), requires that “not later than October 26, 2004, the Attorney General [now the Secretary of Homeland Security] and the Secretary of State shall issue to aliens only machine-readable, tamper-resistant visas and travel and entry documents that use biometric identifiers.” In order to fulfill the requirement for biometric identifiers, we established the Biometric Visa Program, by which immigrant and nonimmigrant visa applicants enroll fingerscans of their two index fingers and submit photographs with visa applications.

In establishing the Biometric Visa Program, we coordinated closely with the Department of Homeland Security (DHS). The Biometric Visa Program is a partner program to the DHS US-VISIT Program that is in effect at U.S. ports of entry and that uses the same biometric identifiers, two index fingerscans and a photograph. By coordinating these two programs, the two departments have ensured the integrity of the U.S. visa. This is accomplished by sending the fingerscans and photos of visa applicants to DHS databases. When a person to whom a visa has been issued arrives at a port of entry, his or her photo is retrieved from a database and projected on the computer screen of the Customs and Border Protection officer. The person's fingerscans are compared to the fingerscans in the database to ensure that the person presenting the visa is the same as the person to whom the visa was issued.

Certain exemptions to the fingerscans under the Biometric Visa Program were also coordinated with the Department of Homeland Security to coincide with the exemptions to fingerscans under the US-VISIT Program. Under the Biometric Visa Program, applicants for diplomatic or official visas, for visas to represent their governments at recognized international organizations such as the United Nations or for visas to serve as employees of such organizations, for NATO visas, or for government officials on official transit through the U.S. are exempt from the fingerscans. The aforementioned are represented by visa categories: A-1, A-2, G-1, G-2, G-3, G-4, NATO-1, NATO-2, NATO-3, NATO-4, NATO-5, NATO-6 and C-3 (except for attendants, servants, or personal employees of accredited officials). In addition, persons under age 14 and persons age 80 or above are exempt from the fingerscans, unless the person is applying for a nonimmigrant visa at a consular post in Mexico. In Mexico, we have been requiring fingerscans for applicants age 7 and above under the program for issuance of biometric Border Crossing Cards (commonly known as “laser visas”), which began in 1998. We will continue to require fingerscans for any nonimmigrant visa applicant age 7 and above at our posts in Mexico. These age exemptions are being put into effect for operational efficiencies; however, the Secretary of State retains the authority to require fingerscans of children under age 14 or adults age 80 or above. All visa applicants are required to submit a photograph with the visa application, except at consular posts in Mexico where most nonimmigrant visa applicants have a live-capture photo taken at post.

By checking fingerscans against a biometric watchlist, the Biometric Visa Program enables consular officers to deny visas to persons on the watchlist who are ineligible for visas. For the great majority of travelers, the Biometric Visa Program performs a travel facilitation function by allowing for biometric identity verification at ports of entry, which serves to facilitate admission to the United States.

Dated: December 17, 2004.
Maura Harty,
Assistant Secretary for Consular Affairs, Department of State.

[FR Doc. 04-28566 Filed 12-29-04; 8:45 am]

BILLING CODE 4710-06-P